DEPARTMENT OF ENERGY

Federal Energy Regulatory Commission

Combined Notice of Filings #2

Take notice that the Commission received the following electric rate filings:

Docket Numbers: ER10-1484-005.

Applicants: Shell Energy North America (U.S.), L.P.

Description: Shell Energy North America (U.S.), L.P. submits updated market power analysis for the Northeast region.

Filed Date: 10/31/12.

Accession Number: 20121031-5397.

Comments Due: 5 p.m. ET 11/21/12.

Docket Numbers: ER13-266-000.

Applicants: Duke Energy Carolinas, LLC.

Description: Amendment to Rate Schedule No. 318-2013 Confirmation to be effective 1/1/2013.

Filed Date: 11/1/12.

Accession Number: 20121101-5017.

Comments Due: 5 p.m. ET 11/23/12.

Docket Numbers: ER13-269-000.

Applicants: PJM Interconnection, L.L.C.

Description: Original Service Agreement No. 3403; Queue No. U3-004 to be effective 9/28/2012.

Filed Date: 11/1/12.

Accession Number: 20121101-5055.

Comments Due: 5 p.m. ET 11/23/12.

Docket Numbers: ER13-270-000.

Applicants: New England Power Pool Participants Committee, ISO New England Inc.

Description: Elimination of Internal Bilateral Transactions for Regulation to be effective 1/1/2013.

Filed Date: 11/1/12.

Accession Number: 20121101-5067.

Comments Due: 5 p.m. ET 11/23/12.

Docket Numbers: ER13-271-000.

Applicants: Alabama Power Company.

Description: Cancellation of Rate Schedule MUN-1 to be effective 1/1/2013.

Filed Date: 11/1/12.

Accession Number: 20121101-5083.

Comments Due: 5 p.m. ET 11/23/12.

Docket Numbers: ER13-272-000.

Applicants: Startrans IO, LLC.

Description: Startrans IO Proposed Decrease in Base Transmission Revenue Requirement to be effective 1/1/2013.

Filed Date: 11/1/12.

Accession Number: 20121101-5084.

Comments Due: 5 p.m. ET 11/23/12.

Docket Numbers: ER13-273-000.

Applicants: Northern States Power Company, a Wisconsin corporation.

Description: Northern States Power Company, a Wisconsin corporation submits a Notice of Cancellation of the Restated Interconnection and Power and Energy Supply Agreement with the City of Barron, Wisconsin.

Filed Date: 10/31/12.

Accession Number: 20121031-5398.

Comments Due: 5 p.m. ET 11/21/12.

Docket Numbers: ER13-274-000.

Applicants: Northern States Power Company, a Wisconsin corporation.

Description: Northern States Power Company, a Wisconsin corporation submits a Notice of Cancellation of the Restated Interconnection and Power and Energy Supply Agreement with the Village of Cadott, Wisconsin.

Filed Date: 10/31/12.

Accession Number: 20121031-5401.

Comments Due: 5 p.m. ET 11/21/12.

Docket Numbers: ER13-275-000.

Applicants: Northern States Power Company, a Wisconsin corporation.

Description: Northern States Power Company, a Wisconsin corporation submits a Notice of Cancellation of the Restated Interconnection and Power and Energy Supply Agreement with the City of Bloomer, Wisconsin.

Filed Date: 10/31/12.

Accession Number: 20121031-5407.

Comments Due: 5 p.m. ET 11/21/12.

Docket Numbers: ER13-276-000.

Applicants: Northern States Power Company, a Wisconsin corporation.

Description: Northern States Power Company, a Wisconsin corporation submits a Notice of Cancellation of the Restated Interconnection and Power and Energy Supply Agreement with the City of Cornell, Wisconsin.

Filed Date: 10/31/12.

Accession Number: 20121031-5408.

Comments Due: 5 p.m. ET 11/21/12.

Docket Numbers: ER13-277-000.

Applicants: The Detroit Edison Company.

Description: Update Seller Category Status to be effective 11/2/2012.

Filed Date: 11/1/12.

Accession Number: 20121101-5098.

Comments Due: 5 p.m. ET 11/23/12.

Docket Numbers: ER13-278-000.

Applicants: Northern States Power Company, a Wisconsin corporation.

Description: Northern States Power Company, a Wisconsin corporation submits a Notice of Cancellation of the Restated Interconnection and Power and Energy Supply Agreement with the City of Wakefield, Wisconsin.

Filed Date: 10/31/12.

Accession Number: 20121031-5410.

Comments Due: 5 p.m. ET 11/21/12.

Docket Numbers: ER13-279-000.

Applicants: Northern States Power Company, a Wisconsin corporation.

Description: Northern States Power Company, a Wisconsin corporation submits a Notice of Cancellation of the Restated Interconnection and Power and Energy Supply Agreement with the City of Spooner, Wisconsin.

Filed Date: 10/31/12.

Accession Number: 20121031-5411.

Comments Due: 5 p.m. ET 11/21/12.

Docket Numbers: ER13-280-000.

Applicants: Northern States Power Company, a Wisconsin corporation.

Description: Northern States Power Company, a Wisconsin corporation submits a Notice of Cancellation of the Restated Interconnection and Power and Energy Supply Agreement with the Village of Trempealeau, Wisconsin.

Filed Date: 10/31/12.

Accession Number: 20121031-5412.

Comments Due: 5 p.m. ET 11/21/12.

Docket Numbers: ER13-281-000.

Applicants: Star Energy Partners LLC.

Description: Star Energy Partners Market Based Rate Tariff to be effective 11/20/2012.

Filed Date: 11/1/12.

Accession Number: 20121101-5102.

Comments Due: 5 p.m. ET 11/23/12.

Docket Numbers: ER13-282-000.

Applicants: Wabash Valley Power Association, Inc.

Description: Rate Schedule Amendments—November 2012 to be effective 7/6/2010.

Filed Date: 11/1/12.

Accession Number: 20121101-5104.

Comments Due: 5 p.m. ET 11/23/12.

Docket Numbers: ER13-283-000.

Applicants: Public Service Company of Colorado.

Description: 2012-11-1-Annual FP2P Rate Filing to be effective 1/1/2013.

Filed Date: 11/1/12.

Accession Number: 20121101-5105.

Comments Due: 5 p.m. ET 11/23/12.

Take notice that the Commission received the following electric securities filings:

Docket Numbers: ES11-40-002.

Applicants: Entergy Services, Inc., Entergy Arkansas, Inc., Entergy Gulf States Louisiana, L.L.C., Entergy Louisiana, LLC, Entergy Mississippi, Inc., Entergy New Orleans, Inc., Entergy Texas, Inc.

Description: Joint Application for Temporary Modification of Existing Authorizations under Section 204 of the Federal Power Act of Entergy Services, Inc., et al.

Filed Date: 10/31/12.

Accession Number: 20121031-5413.

Comments Due: 5 p.m. ET 11/21/12.

Take notice that the Commission received the following land acquisition reports:

Docket Numbers: LA12-3-000.

Applicants: Bluegrass Generation Company, L.L.C., Blythe Energy, LLC, Calhoun Power Company, LLC, Cherokee County Cogeneration Partners, LLC, DeSoto County Generating Company, LLC, Doswell Limited Partnership, Las Vegas Power Company, LLC, LS Power Marketing, LLC, LSP Safe Harbor Holdings, LLC, LSP University Park, LLC, Renaissance Power, L.L.C., Riverside Generating Company, L.L.C., Rocky Road Power, LLC, Tilton Energy LLC, University Park Energy, LLC, and Wallingford Energy LLC, LLC.

Description: Quarterly Land Acquisition Report of the LS Power Development, LLC MBR Sellers.

Filed Date: 10/31/12.

Accession Number: 20121031-5409.

Comments Due: 5 p.m. ET 11/21/12.

Take notice that the Commission received the following public utility holding company filings:

Docket Numbers: PH13-3-000.

Applicants: DTE Energy Company.

Description: DTE Energy Company submits Form 65 and Form 65-B Notice of Change.

Filed Date: 10/31/12.

Accession Number: 20121031-5400.

Comments Due: 5 p.m. ET 11/21/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 1, 2012.
Nathaniel J. Davis, Sr.,
Deputy Secretary.

[FR Doc. 2012-27388 Filed 11-8-12; 8:45 am]

BILLING CODE 6717-01-P